DEPARTMENT OF DEFENSE

Office of the Secretary

Privacy Act of 1974; System of Records

AGENCY: Department of Defense (DoD).

ACTION: Rescindment of system of records notices (SORNs).

SUMMARY: In accordance with the Privacy Act of 1974, the DoD is providing notice to rescind six Privacy Act SORNs. A description of these systems can be found in the SUPPLEMENTARY INFORMATION section.

DATES: The rescindment of these SORNs is effective August 11, 2025.

ADDRESSES: You may submit comments, identified by docket number and title, by either of the following methods:

* Federal Rulemaking Portal: https://www.regulations.gov. Follow the instructions for submitting comments.

* Mail: Department of Defense, Office of the Assistant to the Secretary of Defense for Privacy, Civil Liberties, and Transparency, Regulatory Directorate, 4800 Mark Center Drive, Attn: Mailbox 24, Suite 05F16, Alexandria, VA 22350-1700.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Rahwa Keleta, Privacy and Civil Liberties Directorate, Office of the Assistant to the Secretary of Defense for Privacy, Civil Liberties, and Transparency, Department of Defense, 4800 Mark Center Drive, Mailbox #24, Suite 05F16, Alexandria, VA 22350-1700, osd.mc-alex.oatsd-pclt.mbx.pcld-sorn@mail.mil, (703) 571-0070.

SUPPLEMENTARY INFORMATION:

I. Background

Pursuant to the provisions of the Privacy Act of 1974, 5 U.S.C. 552a, and as part of its ongoing integration and management efforts, the DoD is removing six Privacy Act SORNs from its inventory. Upon review of its inventory, DoD determined it no longer needs or uses these systems of records because the records are covered by other SORNs; therefore, DoD is retiring the following:

These three systems of records [items (a) through (c)] are being rescinded because the records are now maintained as part of the DoD-wide system of records titled DoD-0020, Military Human Resource Records, published in the Federal Register on May 14, 2024 (89 FR 42459).

(a) The Department of the Air Force system of records F036 SAFLLA, Presidential Letter of Appreciation Request System (PLARS) (November 18, 2004; 69 FR 67549) was established to process requests for Presidential Letters of Appreciation for appropriate retirees and to submit retiree information in support of the requests, to generate White House memoranda, and to generate reports on the number of submitted, processed, on-hold, rejected, and archived requests during a given period.

(b) The Department of the Air Force system of records F044 AFSG F, Veterinary Personnel Files (June 11, 1997; 62 FR 31793) was established solely for the purpose of recommending individual for assignment, extension or advanced training.

(c) The Department of the Air Force system of records F091 AFIA A, United States Air Force (USAF) Inspection Scheduling System, (June 11, 1997, 62 FR 31793) was established to monitor and schedule USAF Inspection and Safety Center (AFISC) inspection teams and efforts; publish official travel orders for safety and inspection personnel, and count AFISC man-days.

These three systems of records [items (d) through (f)] are being rescinded because the records are now maintained as part of the Army system of records titled A0025-2 PMG (DFBA) DoD, Defense Biometric Identification Records System, published in the Federal Register on February 17, 2015 (80 FR 8292).

(d) The Department of the Army (DA) system of records A0025-2 SAIS DoD, Defense Biometric Services (September 22, 2009, 74 FR 48237-48238) was established to enhance identity management of DoD persons and streamline business functions through a biometric database and associated data processing/information service for designated populations.

(e) The Department of the Army (DA) system of records A0025-2a SAIS DoD, Defense Biometric Identification Records System (April 17, 2009, 74 FR 17840-17841) was established to control logical and physical access to DoD and DoD controlled information systems and DoD or DoD contractor operated, controlled, or secured facilities and to support the DoD physical and logical security, force protection, identity management, and information assurance programs, by identifying an individual or verifying/authenticating the identity of an individual through the use of biometrics (i.e., measurable physiological or behavioral characteristics) for purposes of protecting U.S./Coalition/allied government and/or U.S./Coalition/allied national security areas of responsibility and information.

(f) The Department of the Army (DA) system of records A0025-2c SAIS DoD, Department of Defense Detainee Biometric Information Systems (September 28, 2005; 70 FR 56645-56646) was established to identify an individual or to verify/authenticate the identity of an individual, who is detained due to overseas military operations and maritime interceptions, by using a biometric (i.e., measurable physiological or behavioral characteristic). Information is used for purposes of protecting U.S./Coalition/allied government and/or U.S./Coalition/allied national security areas of responsibility and information.

DoD SORNs have been published in the Federal Register and are available from the address in FOR FURTHER INFORMATION CONTACT or at the Privacy and Civil Liberties Directorate website at https://dpcld.defense.gov.

II. Privacy Act

Under the Privacy Act, a “system of records” is a group of records under the control of an agency from which information is retrieved by the name of an individual or by some identifying number, symbol, or other identifying particular assigned to the individual. In the Privacy Act, an individual is defined as a U.S. citizen or alien lawfully admitted for permanent residence.

In accordance with 5 U.S.C. 552a(r) and Office of Management and Budget (OMB) Circular No. A-108, DoD has provided a report of this SORN bulk rescindment to OMB and Congress.

System name | No. | History
(a) Presidential Letter of Appreciation Request System (PLARS) | F036 SAFLL A | November 18, 2004; 69 FR 67549.
(b) Veterinary Personnel Files | F044 AFSG F | June 11, 1997, 62 FR 31793.
(c) Inspection Scheduling System | F091 AFIA A | June 11, 1997, 62 FR 31793.
(d) Defense Biometric Services | A0025-2 SAIS DoD | September 22, 2009, 74 FR 48237-48238.
(e) Defense Biometric Identification Records System | A0025-2a SAIS DoD | April 17, 2009, 74 FR 17840-17841.
(f) Department of Defense Detainee Biometric Information Systems | A0025-2c SAIS DoD | September 28, 2005; 70 FR 56645-56646.

Dated: August 6, 2025.
Aaron T. Siegel,
Alternate OSD Federal Register Liaison Officer, Department of Defense.

[FR Doc. 2025-15173 Filed 8-8-25; 8:45 am]

BILLING CODE 6001-FR-P